SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Water Source Approval—Issued Under 18 CFR 806.22(f)

1. Chief Oil & Gas, LLC; Pad ID: Myers Unit Drilling Pad #1; ABR-201201039.R2; Burlington Township, Bradford County, Pa.; Consumptive Use of Up to 2.0000 mgd; Approval Date: April 14, 2022.

2. Chesapeake Appalachia, LLC; Pad ID: Lundy; ABR-20100340.R2; Standing Stone Township, Bradford County, Pa.; Consumptive Use of Up to 7.50000 mgd; Approval Date: April 14, 2022.

3. JKLM Energy, LLC.; Pad ID: Headwaters 142; ABR-201703009.R2; Ulysses Township, Potter County, Pa.; Consumptive Use of Up to 3.5500 mgd; Approval Date: April 14, 2022.

4. EXCO Resources (PA), LLC.; Pad ID: Dale Bowers Drilling Pad #1; ABR-20100214.R2; Penn Township, Lycoming County, Pa.; Consumptive Use of Up to 8.0000 mgd; Approval Date: April 14, 2022.

5. Chief Oil & Gas, LLC; Pad ID: SGL-12 J UNIT PAD ; ABR-202204001; Leroy Township, Bradford County, Pa.; Consumptive Use of Up to 2.5000 mgd; Approval Date: April 18, 2022.

6. Chesapeake Appalachia, L.L.C.; Pad ID: Elevation; ABR-20100339.R2; North Towanda Township, Bradford County, Pa.; Consumptive Use of Up to 7.5000 mgd; Approval Date: April 18, 2022.

7. Chesapeake Appalachia, L.L.C.; Pad ID: Schoonover; ABR-20100345.R2; Wysox Township, Bradford County, Pa.; Consumptive Use of Up to 7.5000 mgd; Approval Date: April 18, 2022.

8. Chief Oil & Gas, LLC; Pad ID: Raimo Unit Pad; ABR-201703002.R1; Wilmot Township, Bradford County, Pa.; Consumptive Use of Up to 2.5000 mgd; Approval Date: April 18, 2022.

9. Repsol Oil & Gas USA, LLC; Pad ID: JONES (02 186); ABR-202204002; Blossburg Borough and Hamilton Township, Tioga County, Pa.; Consumptive Use of Up to 6.0000 mgd; Approval Date: April 25, 2022.

10. Seneca Resources Company, LLC; Pad ID: Bartlett 531; ABR-20100351.R2; Liberty Township, Tioga County, Pa.; Consumptive Use of Up to 4.9900 mgd; Approval Date: April 25, 2022.

11. Coterra Energy, Inc.; Pad ID: HallidayA P1; ABR-201503005.R1; Bridgewater Township, Susquehanna County, Pa.; Consumptive Use of Up to 5.0000 mgd; Approval Date: April 25, 2022.

12. Seneca Resources Company, LLC; Pad ID: PHC Pad B; ABR-20100352.R2; Lawrence Township, Clinton County, Pa.; Consumptive Use of Up to 4.0000 mgd; Approval Date: April 25, 2022.

13. Seneca Resources Company, LLC; Pad ID: PHC Pad A; ABR-20100353.R2; Lawrence Township, Clinton County, Pa.; Consumptive Use of Up to 4.0000 mgd; Approval Date: April 26, 2022.

14. Repsol Oil & Gas USA, LLC; Pad ID: Strange; ABR-20100404.R2; Sullivan Township, Tioga County, Pa.; Consumptive Use of Up to 6.0000 mgd; Approval Date: April 26, 2022.

15. Chesapeake Appalachia, L.L.C.; Pad ID: Crawford; ABR-20100402.R2; Terry Township, Bradford County, Pa.; Consumptive Use of Up to 7.5000 mgd; Approval Date: April 26, 2022.

16. Seneca Resources Company, LLC; Pad ID: DCNR Tract 100 5H; ABR-20100439.R2; Lewis Township, Lycoming County, Pa.; Consumptive Use of Up to 4.0000 mgd; Approval Date: April 28, 2022.

17. Seneca Resources Company, LLC; Pad ID: Gee 832; ABR-20100444.R2; Middlebury Township, Tioga County, Pa.; Consumptive Use of Up to 4.0000 mgd; Approval Date: April 28, 2022.

18. Seneca Resources Company, LLC; Pad ID: Topf 416; ABR-20100443.R2; Delmar Township, Tioga County, Pa.; Consumptive Use of Up to 4.0000 mgd; Approval Date: April 28, 2022.

19. Repsol Oil & Gas USA, LLC; Pad ID: DCNR 587 (02 005); ABR-20100354.R2; Ward Township, Tioga County, Pa.; Consumptive Use of Up to 6.0000 mgd; Approval Date: April 28, 2022.

20. Seneca Resources Company, LLC; Pad ID: Wood 512; ABR-20100415.R2; Rutland Township, Tioga County, Pa.; Consumptive Use of Up to 4.0000 mgd; Approval Date: April 28, 2022.

21. Chesapeake Appalachia, L.L.C.; Pad ID: Allford ABR-20100412.R2; Smithfield Township, Bradford County, Pa.; Consumptive Use of Up to 7.5000 mgd; Approval Date: April 28, 2022.

22. Chesapeake Appalachia, L.L.C.; Pad ID: Rexford; ABR-20100437.R2; Orwell Township, Bradford County, Pa.; Consumptive Use of Up to 7.5000 mgd; Approval Date: April 28, 2022.

23. Repsol Oil & Gas USA, LLC; Pad ID: Golden Eagle; ABR-20100433.R2; Covington Township, Tioga County, Pa.; Consumptive Use of Up to 6.0000 mgd; Approval Date: April 28, 2022.

24. Chesapeake Appalachia, L.L.C.; Pad ID: Brink; ABR-20100449.R2; Herrick Township, Bradford County, Pa.; Consumptive Use of Up to 7.5000 mgd; Approval Date: April 29, 2022.

25. Chesapeake Appalachia, L.L.C.; Pad ID: Polomski ABR-20100447.R2; Wyalusing Township, Bradford County, Pa.; Consumptive Use of Up to 7.5000 mgd; Approval Date: April 29, 2022.

26. Coterra Energy Inc.; Pad ID: BolcatoG P1; ABR-201503006.R1; Gibson Township, Susquehanna County, Pa.; Consumptive Use of Up to 4.9990 mgd; Approval Date: April 29, 2022.

27. Range Resources—Appalachia, LLC; Pad ID: Laurel Hill D Pad; ABR-201503003.R1; Cogan House Township, Lycoming County, Pa.; Consumptive Use of Up to 4.0000 mgd; Approval Date: April 29, 2022.

28. SWN Production Company, LLC; Pad ID: Charles Pad; ABR-201204013.R2; Jackson Township, Susquehanna County, Pa.; Consumptive Use of Up to 4.9990 mgd; Approval Date: April 29, 2022.

29. Chesapeake Appalachia, L.L.C.; Pad ID: Champdale; ABR-20100450.R2; Tuscarora Township, Bradford County, Pa.; Consumptive Use of Up to 7.5000 mgd; Approval Date: April 30, 2022.

Authority: Public Law 91-575, 84 Stat. 1509 et seq., 18 CFR parts 806 and 808.

Dated: May 6, 2022.
Jason E. Oyler,
General Counsel and Secretary to the Commission.

[FR Doc. 2022-10134 Filed 5-11-22; 8:45 am]

BILLING CODE 7040-01-P